DEPARTMENT OF TRANSPORTATION

Federal Aviation Administration

Notice of Intent To Rule on Application To Impose and Use the Revenue From a Passenger Facility Charge (PFC) at Middle Georgia Regional Airport, Macon, GA

AGENCY: Federal Aviation Administration (FAA), DOT.

ACTION: Notice of intent to rule on application.

SUMMARY: The FAA proposes to rule and invites public comment on the application to impose and use the revenue from a PFC at the Middle Georgia Regional Airport under the provisions of the Aviation Safety and Capacity Expansion Act of 1990 (Title IX of the Omnibus Budget Reconciliation Act of 1990) (Public Law 101-508) and Part 158 of the Federal Aviation Regulations (14 CFR part 148).

DATES: Comments must be received on or before October 10, 2001.

ADDRESSES: Comments on this application may be mailed or delivered in triplicate to the FAA at the following address: Atlanta Airport District Office, 1701 Columbia Avenue, Suite 2-260, College Park, Georgia 30337-2747.

In addition, one copy of any comments submitted to the FAA must be mailed or delivered to Mr. Rex Elder, Aviation Director of the Middle Georgia Regional Airport at the following address: City of Macon, Municipal Aviation Department, 1000 Terminal Drive, Macon, Georgia 31297.

Air carriers and foreign air carriers may submit copies of written comments previously provided to the City of Macon under section 158.23 of Part 158.

FOR FURTHER INFORMATION CONTACT: Daniel Gaetan, Program Manager, Atlanta Airports District Office, Atlanta Airports District Office, 1701 Columbia Avenue, Suite 2-260, College Park, Georgia 30337-2747, (404) 305-7146. The application may be reviewed in person at this same location.

SUPPLEMENTARY INFORMATION: The FAA proposes to rule and invites public comment on the application to impose and use the revenue from a PFC at the Middle Georgia Regional Airport under the provisions of the Aviation Safety and Capacity Expansion Act of 1990 (Title IX of the Omnibus Budget Reconciliation Act of 1990) (Public Law 101-508) and Part 158 of the Federal Aviation Regulations (14 CFR Part 158).

On August 28, 2001, the FAA determined that the application to impose and use the revenue from a PFC submitted by the City of Macon, Municipal Airport Department, was substantially complete within the requirements of section 158.25 of Part 148. The FAA will approve or disapprove the application, in whole or in part, no later than December 3, 2001.

The following is a brief overview of the application.

PFC Application No.: PFC No. 01-01-C-00-MCN.

Level of the proposed PFC: $4.50.

Proposed charge effective date: March 1, 2002.

Proposed charge expiration date: November 1, 2008.

Total estimated net PFC revenue: $806,842.

Brief description of proposed project(s): Airport Entrance Road, Rehabilitate Runway 5-23, Improvements to terminal building.

Class or classes of air carriers that the public agency has requested not be required to collect PFCs: Air taxi/Commercial operators (ATCO) filing form 1800-31.

Any person may inspect the application in person at the FAA office listed above under FOR FURTHER INFORMATION CONTACT.

In addition, any person may, upon request, inspect the application, notice and other documents germane to the application in person at the Middle Georgia Regional Airport.

Issued in College Park, Georgia on August 28, 2001.
Scott L. Seritt,
Manager, Atlanta Airports District Office, Southern Region.

[FR Doc. 01-22660 Filed 9-7-01; 8:45 am]

BILLING CODE 4910-13-M